DEPARTMENT OF COMMERCE

National Oceanic and Atmospheric Administration

RIN: 0648-XO91

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Scientific and Statistical Committee (SSC) will hold a public meeting.

DATES: The meeting will be held on Tuesday, May 19, 2009, from 8:30 a.m. to 5 p.m.

ADDRESSES: The meeting will be held at the Sheraton Four Points Hotel (at Baltimore-Washington Airport), 7032 Elm Road, Baltimore, MD 21240; telephone: (410) 859-3300).

Council address: Mid-Atlantic Fishery Management Council, 300 S. New Street, Room 2115, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: The terms of reference for this meeting include: (1) review stock status and specify overfishing level and ABC for Atlantic mackerel and butterfish for 2010; review and comment on proposed 2010 quota specifications and management measures for Atlantic mackerel, butterfish, Loligo and Illex; (2) review and comment on report of SSC's Subcommittee on Scientific on Uncertainty (SUN) regarding current and proposed fishing mortality control rules for MAFMC managed species; and (3) review and comment on range of issues contained in the Mid-Atlantic Fishery Management Council's annual catch limit/accountability measures (ACL/AM) Omnibus Amendment Scoping Document.

Special Accommodations

The meeting is physically accessible to people with disabilities. Requests for sign language interpretation or other auxiliary aids should be directed to M. Jan Bryan at the Mid-Atlantic Council Office, (302) 674-2331 extension 18, at least 5 days prior to the meeting date.

Dated: April 22, 2009.
Tracey L. Thompson,
Acting Director, Office of Sustainable Fisheries, National Marine Fisheries Service.

[FR Doc. E9-9498 Filed 4-24-09; 8:45 am]

BILLING CODE 3510-22-S